SOCIAL SECURITY ADMINISTRATION

[DOCKET No: SSA-2007-0047]

Privacy Act of 1974, as Amended; Computer Matching Program SSA/Department of Homeland Security (DHS) Match 1010

AGENCY: Social Security Administration (SSA).

ACTION: Notice of a renewed computer matching program, which is expected to begin August 1, 2007.

SUMMARY: In accordance with the provisions of the Privacy Act, as amended, this notice announces a computer matching program that SSA conducts with DHS.

DATES: SSA will file a report of the subject matching program with the Committee on Homeland Security and Governmental Affairs of the Senate, the Committee on Government Reform of the House of Representatives, and the Office of Information and Regulatory Affairs, Office of Management and Budget (OMB). The matching program will be effective as indicated below.

ADDRESSES: Interested parties may comment on this notice either by telefaxing to (410) 965-8582 or by writing to the Associate Commissioner, Office of Income Security Programs, 252 Altmeyer Building,6401 Security Boulevard, Baltimore, MD 21235-6401. All comments received will be available for public inspection at this address.

FOR FURTHER INFORMATION CONTACT: The Associate Commissioner for Income Security Programs as shown above.

SUPPLEMENTARY INFORMATION:

A. General

The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating or denying an individual's benefits or payments.

B. SSA Computer Matches Subject to the Privacy Act

We have taken action to ensure that all of SSA's computer matching programs comply with the requirements of the Privacy Act, as amended.

Dated: May 21, 2007.
Manuel J. Vaz,
Acting Deputy Commissioner for Disability and Income Security Programs.

Notice of a Renewed Computer Matching Program, Social Security Administration (SSA) With the Department of Homeland Security (DHS).

A. Participating Agencies

SSA and DHS.

B. Purpose of the Matching Program

The purpose of this matching program is to establish conditions under which DHS agrees to the disclosure of information regarding certain aliens who may, as a result of their current or planned absences from the United States, be subject to nonpayment of benefits in programs administered by SSA. The disclosure will provide SSA with information useful in determining claim and benefit status under both title II and title XVI of the Social Security Act, governing Social Security Retirement, Survivors and Disability Insurance Benefits, and Supplemental Security Income, in that certain persons who are outside the United States, or similarly lack appropriate statutorily specified residency and citizenship/alienage status, may not be paid benefits under specific statutory provisions of those titles. Public Law (Pub. L.) No. 108-203 (The Social Security Protection Act of 2004), section 412, expands section 202(n) of the Social Security Act to prohibit payment of retirement or disability benefits to number holders removed from the United States under section 237(a) or under section 212(a)(6)(A) of the Immigration and Nationality Act of 1952 (INA), as amended.

C. Authority for Conducting the Matching Program

Legal authority for the relevant disclosures of this matching operation is contained in sections 202(n) of the Social Security Act, as amended by section 412 of Pub. L. 108-203, 1611(f), and 1614(a)(1) of the Social Security Act (42 U.S.C. 402(n) 1382(f) and 1382c(a)(1) (the Act) and 8 U.S.C. 1611 and 1612). Section 1631(e) (1) (B) of the Act, 42 U.S.C. 1383(e) (1) (B) requires SSA to verify declarations of applicants for, and recipients of, Supplemental Security Income (SSI) payments before making a determination of eligibility or payment amount. Section 1631(f) of the Act (42 U.S.C. 1383(f)) requires Federal agencies to provide SSA with information necessary to verify SSI eligibility or benefit amounts or to verify other information related to these determinations. In addition, section 202(n)(2) of the Act specifies that the “Attorney General or the Secretary of the [Department of Homeland Security]” notify the Commissioner of Social Security when certain individuals are removed under specified provisions of section 237(a) or under section 212(a)(6)(A) of the Immigration and Nationality Act (INA).

D. Categories of Records and Individuals Covered by the Matching Agreement

DHS will disclose to SSA two data files as described below:

1. Aliens Who Leave the United States Voluntarily

DHS will provide SSA with an electronic file from its Computer Linked Application Information Management System (CLAIMS) (Justice/INS 013 system of records, most recently published at 62 FR 59734, dated 11/04/97, which is electronically formatted for transmission to SSA). CLAIMS contains information on resident aliens who are SSI recipients and who have left or plan to leave the United States for any period of 30 consecutive days. SSA will then match the DHS CLAIMS data with Social Security number (SSN) applicant and holder information, maintained in SSA's Master Files of Social Security Number (SSN) Holders and SSN Applications, SSA/OEEAS 60-0058 (most recently published at 65 FR 66279, dated 11/03/2000); and SSA's Supplemental Security Income Record (SSR) and Special Veterans Benefits (SVB) (most recently published at 66 FR 11079 SSA/OEEAS 60-0103, dated 02/21/2001).

2. Aliens Who Are Removed From the United States

DHS will also provide SSA with an electronic file containing information on removed number holders from its Deportable Alien Control System (DACS) (Justice/INS-012, full text published at 65 FR 46738, dated 07/31/2000, modified at 66 FR 66712, dated 01/22/2001). Electronically formatted for transmission to SSA, DACS is scheduled to be replaced by the Enforce Removal Module (EREM). After such transition, EREM will be the system of records used in the match. SSA will then match the DHS EREM data with applicant and holder information maintained in SSA's Master Files of Social Security Number (SSN) Holders and SSN Applications SSA/OEES 60-0058, published at 65 FR 66279 (11/03/00), the Master Beneficiary Record SSA/OEEAS 60-0090, most recently published at 66 FR 11080, dated 02/21/2001); and the Supplemental Security Record.

E. Inclusive Dates of the Match

The matching program will become effective no sooner than 40 days after notice of the matching program is sent to Congress and OMB, or 30 days after publication of this notice in the Federal Register, whichever date is later. The matching program will continue for 18 months from the effective date and may be extended for an additional 12 months thereafter, if certain conditions are met.

[FR Doc. E7-11099 Filed 6-7-07; 8:45 am]

BILLING CODE 4191-02-P